ENVIRONMENTAL PROTECTION AGENCY

[FRL-8266-3]

El Monte Operable Unit of San Gabriel Valley Superfund Site; Notice of Proposed CERCLA Administrative Settlement Under Section 122(h)(1)

AGENCY: Environmental Protection Agency.

ACTION: Notice; request for public comment.

SUMMARY: In accordance with Section 122(h)(1) of the Comprehensive Environmental Response, Compensation, and Liability Act, as amended (CERCLA), 42 U.S.C. 9622(h)(1), notice is hereby given of a proposed administrative settlement for recovery of past response costs concerning the El Monte Operable Unit of the San Gabriel Valley Superfund Site in El Monte, Los Angeles County, California with the City of El Monte, California. The settlement is entered into pursuant to Section 122(h)(1) of CERCLA, 42 U.S.C. 9622(h)(1) and it requires the City of El Monte to pay $160,000 to the United States Environmental Protection Agency (EPA). The settlement includes a covenant not to sue the City of El Monte pursuant to Sections 106 and 107(a) of CERCLA, 42 U.S.C. 9606 and 9607(a), and Section 7003 of RCRA, 42 U.S.C. 6973. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Comments must be submitted on or before February 5, 2007.

ADDRESSES: The proposed settlement is available for public inspection at EPA Region IX, 75 Hawthorne Street, San Francisco, California. A copy of the proposed settlement may be obtained from James Collins, EPA Region IX, 75 Hawthorne Street, ORC-3, San Francisco, CA 94105, telephone number 415-972-3894. Comments should reference the El Monte Operable Unit of the San Gabrile Valley Superfund Site in El Monte, California and EPA Docket No. 2006-24 and should be addressed to James Collins at the above address.

FOR FURTHER INFORMATION CONTACT: James Collins, Assistant Regional Counsel (ORC-3), Office of Regional Counsel, U.S. EPA Region IX, 75 Hawthorne Street, San Francisco, CA 94105; phone: (415) 972-3894; fax: (415) 947-3570; e-mail: collins.jim@epa.gov.

Dated: December 21, 2006.
Keith Takata,
Director, Superfund Division, Region IX.

[FR Doc. E6-22636 Filed 1-4-07; 8:45 am]

BILLING CODE 6560-50-P